DEPARTMENT OF THE INTERIOR

Fish and Wildlife Service

Baca National Wildlife Refuge

AGENCY: Fish and Wildlife Service, Department of the Interior.

ACTION: Notice.

SUMMARY: The Director intends to accept the transfer of 3,315 acres of land from the Bureau of Reclamation on April 8, 2003, to establish the Baca National Wildlife Refuge in Alamosa County, Colorado.

DATES: This action will be effective on April 8, 2003.

FOR FURTHER INFORMATION CONTACT: Michael Blenden, Project Leader, Alamosa/Monte Vista National Wildlife Refuge Complex, 9383 El Rancho Lane, Alamosa, Colorado 81101: telephone: 719/589-4021, fax: 719/587-0595, e-mail: mike_blenden@fws.gov.

SUPPLEMENTARY INFORMATION: The Director of the U.S. Fish and Wildlife Service has determined that sufficient land is available to establish the Baca National Wildlife Refuge. The Refuge will be administrated in accordance with the National Wildlife Refuge Administration Act of 1966 and the Act of September 28, 1962 commonly known as the Refuge Recreation Act. The establishment of the Refuge will protect water resources; protect and maintain water rights for the protection of monument, park, preserve, and refuge resources and uses; and minimize, to the extent consistent with the protection of national wildlife resources, adverse impacts on other water users.

Authority: This notice is published under the authority of the Great Sand Dunes National Park and Preserve Act of 2000, Pub. L. 106-530, and the National Wildlife Refuge System Administration Act of 1966, as amended (16 U.S.C., 668dd-668ee).

Dated: February 21, 2003.
John A. Blankenship,
Regional Director, Region 6, Denver, Colorado.

[FR Doc. 03-5701 Filed 3-10-03; 8:45 am]

BILLING CODE 4310-55-P